DEPARTMENT OF THE INTERIOR

Bureau of Land Management

[WY-060-1320-EL, WYW150210, WYW150318, WYW151134, WYW151643, WYW154001]

Notice of Availability of South Powder River Basin Coal Draft Environmental Impact Statement and Federal Coal Notice of Hearing, WY

AGENCY: Bureau of Land Management, Interior.

ACTION: Notice of Availability (NOA) of a Draft Environmental Impact Statement (DEIS) on four maintenance lease applications received for five Federal coal tracts in the decertified Powder River Federal Coal Production Region, Wyoming, and Notice of public hearing.

SUMMARY: Under the National Environmental Policy Act (NEPA) and the implementing regulations, the Bureau of Land Management (BLM) announces the availability of the South Powder River Basin Coal DEIS and announces a public hearing pursuant to 43 Code of Federal Regulations (CFR) 3425.4.

The DEIS analyzes and discloses to the public direct, indirect, and cumulative environmental impacts of issuing five Federal coal leases in the Wyoming portion of the Powder River Basin. The tracts are being considered for sale as a result of the following coal lease applications received from existing mines in the Wyoming Powder River Basin:

• On March 10, 2000, Powder River Coal Company applied for a maintenance coal lease for approximately 4,500 acres (approximately 564 million recoverable tons of coal) in two tracts adjacent to the North Antelope/Rochelle Mine Complex in Campbell County, Wyoming. The tracts, which are referred to as the NARO North Lease by Application (LBA) Tract and the NARO South LBA Tract, were assigned case numbers WYW150210 and WYW154001, respectively;

• On March 23, 2000, Ark Land Company applied for a maintenance coal lease for approximately 2,799.5 acres (approximately 383.6 million in-place tons of coal) adjacent to the Black Thunder Mine in Campbell County, Wyoming. The tract, which is referred to as the Little Thunder LBA Tract, was assigned case number WYW150318.

• On June 14, 2001, Ark Land Company filed an application to modify the Little Thunder LBA Tract. As currently filed, the tract includes approximately 3449.3 acres and 440 million tons of recoverable coal reserves;

• On July 28, 2000, Triton Coal Company applied for a maintenance coal lease for approximately 1870.6 acres (approximately 173.2 million in-place tons of coal) adjacent to the North Rochelle Mine in Campbell County, Wyoming. The tract, which is referred to as the West Roundup LBA Tract, was assigned case number WYW151134; and,

• On September 12, 2000, Antelope Coal Company applied for a maintenance coal lease for approximately 3,500 acres (approximately 292.5 million in-place tons of coal) adjacent to the Antelope Mine in Campbell and Converse Counties, Wyoming. The tract, which is referred to as the West Antelope LBA Tract, was assigned case number WYW151643.

• On June 27, 2001, Antelope Coal Company filed an application to modify the West Antelope LBA Tract. As currently filed, the tract includes approximately 3,542 acres and 293.9 million tons of in place coal reserves.

The purpose of the public hearing is to solicit comments on the DEIS from the public on the proposed competitive sales of the Federal coal included in the NARO North, NARO South, Little Thunder, West Roundup, and West Antelope LBA tracts, and on the fair market value and maximum economic recovery of the Federal coal included in the five tracts.

DATES: Written comments on the DEIS will be accepted for 60 days following the date that EPA publishes their NOA of the DEIS in the Federal Register. Requests to be included on the mailing list and to receive copies of the DEIS and notification of the comment period and hearing date should be sent to the address, facsimile number, or electronic address (address) listed below.

The BLM asks that those submitting comments on the DEIS make them as specific as possible with reference to page numbers and chapters of the document. Comments that contain only opinions or preferences will not receive a formal response; however, they will be considered and included as part of the BLM decision-making process.

Future notification of public meetings, or other public involvement activities, concerning the proposed sales will be provided through public notices, news media releases, or mailings. These notifications will provide at least 15 days notice of public meetings or gatherings and 30 days notice of written comments requests.

ADDRESSES: Please address questions, comments, or concerns to the Casper Field Office, Bureau of Land Management, Attn: Nancy Doelger, 2987 Prospector Drive, Casper, Wyoming 82604, fax them to 307-261-7587, or send e-mail comments to the attention of Nancy Doelger at casper_wymail@blm.gov. A copy of the DEIS has been sent to affected Federal, State, and local Government agencies; persons, and entities identified as potentially being affected by a decision to lease the Federal coal in these tracts; and persons who indicated to the BLM that they wished to receive a copy of the DEIS. Copies of the DEIS are available for public inspection at the following BLM office locations: Bureau of Land Management, Wyoming State Office, 5353 Yellowstone Road, Cheyenne, Wyoming 82009; Bureau of Land Management, Casper Field Office, 2987 Prospector Lane, Casper, Wyoming 82604. Comments, including names and street addresses of respondents, will be available for public review at the address listed above during regular business hours (7:45 a.m. through 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Nancy Doelger or Mike Karbs at the above address, or telephone: 307-261-7600.

SUPPLEMENTARY INFORMATION: The five Federal coal tracts being considered for leasing are adjacent to four mines located south and east of Wright, Wyoming. The operators of these mines applied to lease the tracts as maintenance tracts to extend the life of their existing mining operations under the provisions of the Leasing on Application regulations at 43 CFR 3425. The following paragraphs provide descriptions of the tracts as they were applied for.

On March 13, 2000, Powder River Coal Company filed a coal lease application for the following lands in two tracts adjacent to the North Antelope/Rochelle Mine Complex in Campbell County, Wyoming:

NARO North—(WYW150210)

T. 42 N., R. 70 W., 6th PM, Wyoming,

Sec. 28, lots 5 thru 16;

Sec. 29, lots 5 thru 16;

Sec. 30, lots 9 thru 20;

T. 42 N., R. 71 W., 6th PM, Wyoming,

Sec. 25, lots 5 thru 15;

Sec. 26, lots 7 thru 10;

Sec. 35, lots 1, 2, 7 thru 10, 15, 16.

Containing 2,369.25 acres, more or less.

NARO South—WYW 154001

T. 41 N., R. 70 W., 6th PM, Wyoming,

Sec. 19, lots 6 thru 11, 12 (S½), 13 thru 20;

Sec. 20, lots 5 (S½), 6 (S½), 7 (S½), 8 (S½), 9 thru 16;

Sec. 21, lots 5 (S½), 12, 13;

Sec. 28, lots 3 thru 6, 11, NE¼ SW¼;

Sec. 29, lots 1 thru 12;

Sec. 30, lots 5 thru 12.

Containing 2,133.635 acres, more or less.

The tracts as applied for include an estimated 564 million tons of recoverable coal. According to the application filed for the NARO North and NARO South LBA Tracts, mining the coal included in these maintenance tracts would extend the life of the North Antelope/Rochelle Mine Complex.

On March 23, 2000, Ark Land Company filed a coal lease application for lands adjacent to the Black Thunder Mine in Campbell County, Wyoming. The following lands are included in the tract as currently filed:

Little Thunder—WYW150318

T. 43 N., R. 71 W., 6th PM, Wyoming,

Sec. 2, lots 5, 6, 11 thru 14, 19, 20;

Sec. 11, lots 1, 2, 7 thru 10, 15, 16;

Sec. 12, lots 2 (W½ & SE¼), 3 thru 16;

Sec. 13, lots 1 thru 16;

Sec. 14, lots 1, 2, 6 thru 9, 14, 15;

Sec. 24, lots 1 thru 16;

Sec. 25, lots 1, 2, 7 thru 10, 15, 16.

T. 44 N., R. 71 W., 6th PM, Wyoming,

Sec. 35, lots 1, 2, 7 thru 10, 15, 16.T. 44.

Containing 3,449.317 acres more or less.

The tract includes an estimated 440 million tons of in-place coal. According to the application, the coal is needed to maintain existing mining operations at the Black Thunder Mine and would be used for electric power generation.

On July 28, 2000, Triton Coal Company, LLC filed a coal lease application for the following lands adjacent to the North Rochelle Mine in Campbell County, Wyoming:

West Roundup—WYW151134

T. 42 N., R. 70 W., 6th PM, Wyoming,

Sec. 6, lots 8-19, 20 (N½), 21 (N½), 22 (N½), 23 (N½);

Sec. 7, lots 5 (S½), 6 (S½), 7 (S½), 8 (S½), 9 thru 14;

Sec. 8, lots 1 (SW¼), 2 (S½), 3 (S½), 4 (S½), 5 thru 12;

Sec. 9, lots 5 (SW¼), 11, 12, 14;

T. 43 N., R. 70 W., 6th PM, Wyoming,

Sec. 3, lots 13 thru 20.

T. 42 N., R. 71 W., 6th PM, Wyoming

Sec. 1, lots 5, 6, 11 thru 13.

Containing 1,870.638 acres more or less.

The tract includes an estimated 173.2 million tons of in-place coal.

On September 12, 2000, Antelope Coal Company filed a coal lease application for lands adjacent to the Antelope Mine in Campbell and Converse Counties, Wyoming. The following lands are included in the tract as currently filed:

West Antelope—WYW151643

T. 40 N., R. 71 W., 6th PM, Wyoming,

Sec. 3, lots 15 thru 18;

Sec. 4, lots 5 thru 20;

Sec. 5, lots 5 thru 7, 10 thru 15, 19, 20;

Sec. 9, lot 1;

Sec. 10, lots 3, 4;

T. 41 N., R. 71 W., 6th PM, Wyoming,

Sec. 28, lots 1 thru 16;

Sec. 29, lots 1 thru 16;

Sec. 32, lots 1 thru 3, 6 thru 11, 14 thru 16;

Sec. 33, lots 1 thru 16.

Containing 3,542.19 acres more or less.

The West Antelope tract includes an estimated 293.9 million tons of in-place coal. According to the application, mining this coal would extend the life of the existing mine and the coal would be mined for sale to electrical power generating plants. Each of the mines adjacent to the LBA tracts described above (the North Antelope/Rochelle, Black Thunder, North Rochelle, and Antelope mines, respectively) has an approved mining and reclamation plan from the Land Quality Division of the Wyoming Department of Environmental Quality and an approved air quality permit from the Air Quality Division of the Wyoming Department of Environmental Quality. Each of these mines has previously acquired one or more maintenance coal leases using the LBA process.

The DEIS analyzes leasing each of the five tracts (described above) as a separate Proposed Action. As part of the coal leasing process, BLM has identified and is evaluating other tract configurations for these tracts which add or subtract Federal coal to avoid bypassing coal or to increase estimated fair market value of the unleased Federal coal in this area. The tract configurations that BLM has identified for each tract are described and analyzed as alternatives in the DEIS. The DEIS also analyzes the alternative of rejecting each application to lease Federal coal as the No Action Alternative for each tract.

The agency-preferred alternative will vary for each tract, depending on which tract configuration is determined to best advance the public interest in avoiding bypassing Federal coal and obtaining the fair market value of the Federal coal.

The Proposed Actions and Alternatives being considered in the DEIS are in conformance with the “Approved Resource Management Plan for Public Lands Administered by the Bureau of Land Management Buffalo Field Office” (April 2001), the USDA Forest Service “Final EIS for the Northern Great Plains Management Plans Revision” (May 2001) and the BLM “Platte River Resource Area Resource Management Plan” (1985)

The USDA Forest Service (Forest Service) is a cooperating agency in the preparation of the DEIS. The surface of some of the land included for consideration for leasing in three of the tracts (NARO North, Little Thunder, and West Roundup) is National Forest System land administered by the Forest Service as part of the Thunder Basin National Grasslands.

The Office of Surface Mining Reclamation and Enforcement (OSM) is a cooperating agency in the preparation of the DEIS. If the tracts are leased as maintenance tracts, each new lease must be incorporated into the existing mining and reclamation plan for the adjacent mine and the Secretary of the Interior must approve each revision to the MLA (Mineral Leasing Act) mining plan for each mine before the Federal coal in each tract can be mined. OSM is the Federal agency that would be responsible for recommending approval, approval with conditions, or disapproval of the revised MLA mining plans to the office of the Secretary of the Interior if any or all of these tracts are leased.

Dated: December 10, 2002.
Alan L. Kesterke,
Acting State Director.

[FR Doc. 03-4177 Filed 2-19-03; 8:45 am]

BILLING CODE 4310-22-P